SMALL BUSINESS ADMINISTRATION

[Docket No. SBA-2017-0005]

13 CFR Chapter I

Reducing Unnecessary Regulatory Burden

AGENCY: U.S. Small Business Administration.

ACTION: Request for information.

SUMMARY: The Small Business Administration (SBA or Agency) is seeking input from the public on identifying which of the Agency's regulations should be repealed, replaced or modified because they are obsolete, unnecessary, ineffective, or burdensome. This process of evaluating and identifying such regulations comports with the mandate in various Executive Orders to reduce the number and costs of the regulations that federal agencies impose on the public.

DATES: Comments are requested on or before October 16, 2017.

ADDRESSES: You may submit comments, identified by Docket Number SBA-2017-0005, using any of the following methods:

Federal eRulemaking Portal: http://www.regulations.gov. Identify comments by “Docket Number SBA-2017-0005, Reducing Regulatory Burden RFI,” and follow the instructions for submitting comments.

Mail: Holly Turner, Regulatory Reform Officer, U.S. Small Business Administration, 409 Third Street SW., Washington, DC 20416.

SBA will post all comments on http://www.regulations.gov. If you wish to submit confidential business information (CBI) as defined in the User Notice at http://www.regulations.gov, please submit the information to Holly Turner, 409 Third Street SW., Washington, DC 20416. Highlight the information that you consider to be CBI, and explain why you believe this information should be held confidential. SBA will review the information and make the final determination as to whether to publish the information.

FOR FURTHER INFORMATION CONTACT: Holly Turner, (202) 205-6335, 409 Third Street SW., Washington, DC 20416; email address: IGA@sba.gov.

SUPPLEMENTARY INFORMATION:

A. General Information

The SBA's mission is to maintain and strengthen the nation's economy by enabling the establishment and viability of small businesses, and by assisting in economic recovery of communities after disasters. In carrying out this mission, SBA has developed a regulatory policy that is implemented primarily through several core program offices: Office of Capital Access, Office of Disaster Assistance, Office of Entrepreneurial Development, Office of Government Contracting and Business Development, Office of International Trade, and Office of Investment and Innovation. SBA's regulations are codified at title 13 Code of Federal Regulations, chapter I, and consist of parts 100 through 147.

Federal agencies have an ongoing responsibility to ensure that the regulations they issue do not have an adverse economic impact on those affected by the rules. This responsibility has been reinforced over the years in various executive orders that have expressly directed agencies to review their regulations with an eye towards reducing the time and money the public must spend to comply with the regulatory requirements. The most recent of these executive orders are discussed below; together, they provide the framework for SBA's efforts to reduce the regulatory burden on the participants in the agency's programs. One of SBA's primary objectives in carrying out these efforts is to continue to promote economic growth, innovation, and job creation in the small business sector, and to ensure that disaster survivors have the clear policy and procedural guidance they need to quickly obtain financial assistance to rebuild their lives. Anyone responding to SBA's request for feedback should keep these objectives in mind.

B. Executive Order 13771

On January 30, 2017, President Trump signed Executive Order 13771, Reducing Regulation and Controlling Regulatory Costs, which, among other objectives, is intended to ensure that an agency's regulatory costs are prudently managed and controlled so as to minimize the compliance burden imposed on the public. For every new regulation an agency proposes to implement, unless prohibited by law, this Executive Order requires the agency to (i) identify at least two existing regulations that the agency can cancel; and (ii) use the cost savings from the cancelled regulations to offset the cost of the new regulation.

C. Executive Order 13777

On February 24, 2017, the President issued Executive Order 13777, Enforcing the Regulatory Agenda, which further emphasized the goal of the Administration to alleviate the regulatory burdens placed on the public. Under Executive Order 13777, agencies must evaluate their existing regulations to determine which ones should be repealed, replaced, or modified. In doing so, agencies should focus on identifying regulations that, among other things: eliminate jobs or inhibit job creation; are outdated, unnecessary or ineffective; impose costs that exceed benefits; create a serious inconsistency or otherwise interfere with regulatory reform initiatives and policies; or are associated with Executive Orders or other Presidential directives that have been rescinded or substantially modified.

D. Executive Order 13563

Under Executive Order 13563, Improving Regulation and Regulatory Review (January 11, 2011), agencies conduct a retrospective review of their regulations to seek more affordable, less intrusive means to achieve policy goals, and to give careful consideration to the benefits and costs of their regulations. Executive Order 13563, similar to the requirements in Executive Order 13771 and Executive Order 13777, also requires agencies to review existing rules to remove outdated regulations that stifle job creation and make the U.S. economy less competitive.

E. Request for Information

In order to fully implement the goal of these executive orders, SBA seeks help from the public in identifying those regulations that affected parties believe impose unnecessary burdens or costs that exceed their benefits, eliminate jobs or inhibit job creation, or are ineffective or outdated. Commenters should also address how SBA can best obtain and consider accurate, objective data about the costs and other burdens associated with the agency's existing regulations. As you comment, SBA requests that you keep in mind the agency's mission to strengthen America's economy by providing tools to help start and grow businesses, create jobs, and help disaster survivors recover.

F. List of Questions for Commenters

The list of questions below is meant to assist in the formulation of public comments and is not intended to restrict the issues that may be addressed. SBA requests that commenters identify the specific regulation at issue and explain, in as much detail as possible, why the regulation should be streamlined, expanded, or repealed, including estimated cost savings and benefits to small businesses and other stakeholders.

(1) Are there SBA regulations that have become unnecessary or ineffective and, if so, what are they?

(2) Are there SBA regulations that can be repealed without impairing SBA's regulatory programs and, if so, what are they?

(3) Are there SBA regulations that have become outdated and, if so, how can they be modernized to better accomplish their regulatory objectives?

(4) Are there SBA regulations that are still necessary, but which have not operated as well as expected such that a modified approach is justified, and what is that approach?

(5) Are there SBA regulations or regulatory processes that are unnecessarily complicated or could be streamlined to achieve regulatory objectives more efficiently?

(6) Are there any technological developments that can be leveraged to modify, streamline, or repeal any existing SBA regulatory requirements?

(7) Are there any SBA regulations that are not tailored to impose the least burden on the public?

(8) How can SBA best obtain and consider accurate, objective data about the costs, burdens, and benefits of existing SBA regulations?

(9) Are there any specific suggestions of ways SBA can better achieve its regulatory objectives?

SBA notes that this RFI is issued solely for information and planning purposes and that the Agency is not required to implement any of the suggestions it receives. In addition, although the Agency will not be able to respond to individual comments, the requested feedback is valued and will be given careful consideration.

Authority: 15 U.S.C. 634(b)(6); E.O. 13771; E.O. 13777.

Dated: August 4, 2017.
Linda E. McMahon,
Administrator.

[FR Doc. 2017-17176 Filed 8-14-17; 8:45 am]

BILLING CODE 8025-01-P